DEPARTMENT OF DEFENSE

Office of the Secretary

[Docket ID DoD-2022-OS-0099]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by March 1, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Spouse and Family Issues Survey—Active Duty; OMB Control Number 0704-SFIS.

Type of Request: New.

Number of Respondents: 11,500.

Responses per Respondent: 1.

Annual Responses: 11,500.

Average Burden per Response: 15 minutes.

Annual Burden Hours: 2,875.

Needs and Uses: The 2022 Spouse and Family Issues Survey of Active Duty Spouses (SFIS-A) will serve as the primary source for reliable and generalizable survey data on the prevalence of suicide ideation and attempts by military spouses and dependents. DoD is required to report suicide data on military family members per section 567 of the National Defense Authorization Act (NDAA) for Fiscal Year (FY) 2015. This will be the first time the Department of Defense (DoD) has collected this sort of survey data for military spouses and dependents addressing suicide ideation, attempts, and vulnerability/protective factors of suicide. The survey is designed to help DoD inform programs and policies focused on strengthening resilience and mitigating suicidality in military spouses and dependents to enhance understanding of how spouse and family resilience impact force readiness and retention, and to inform the effectiveness of programs and policies under the purview of the Defense Suicide Prevention Office (DSPO).

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Ms. Angela Duncan.

Requests for copies of the information collection proposal should be sent to Ms. Duncan at whs.mc-alex.esd.mbx.dd-dod-information-collections@mail.mil.

Dated: January 25, 2023.
Aaron T. Siegel,
Alternate OSD Federal Register Liaison Officer, Department of Defense.

[FR Doc. 2023-01810 Filed 1-27-23; 8:45 am]

BILLING CODE 5001-06-P